DEPARTMENT OF THE INTERIOR

Bureau of Reclamation

Prospective Grant of Exclusive Patent License

AGENCY: Bureau of Reclamation, Interior.

ACTION: Notice.

SUMMARY: This notice is issued in accordance with 35 U.S.C. 209(c)(1) and 37 CFR 404.7(a)(1)(I). The Bureau of Reclamation (Reclamation) is contemplating the granting of an exclusive license in the United States to practice the invention embodied in U.S. Patent No. 5,544,973 titled “Concrete Step Embankment Protection”. The exclusive license is to be granted to Lee Masonary Products, L.L.C., DBA Armortec, having a place of business in Bowling Green, Kentucky. The patent rights in this invention has been assigned to the United States of America.

The prospective exclusive license will be royalty-bearing and will comply with the terms and conditions of 35 U.S.C. 209 and 37 CFR 404.7. While the primary purpose of this notice is to announce Reclamation's intent to grant an exclusive license to practice the invention listed above, it also serves to publish the availability of this invention for licensing in accordance with law. The prospective license may be granted unless Reclamation receives written evidence and argument which establish that the grant of the license would not be consistent with the requirements of 35 U.S.C. 209 and 37 CFR 404.7

DATES: Written evidence and arguments against granting the prospective license must be received by May 10, 2000.

ADDRESSES: Inquiries, comments, and other materials relating to the contemplated license may be submitted to Donald E. Ralston, Bureau of Reclamation, Research and Technology Transfer, MS-7620, 1849 C Street, N.W., Washington, D.C. 20240.

A copy of the above-identified patent may be purchased from the NTIS Sales Desk by telephoning 1-800-553-NTIS or by writing NTIS at 5285 Port Royal Road, Springfield, VA 22161.

FOR FURTHER INFORMATION CONTACT: Donald Ralston by telephone at (202) 208-5671.

SUPPLEMENTARY INFORMATION: The present invention relates to a dam spillway system for embankment dam overtopping protection comprising a layer of freedraining, angular, gravel filter material, a plurality of rows of overlapping, tapered, concrete blocks assembled over the filter material in shingle-fashion, from the toe of the dam, up the slope to the top of the dam, and a plurality of fixed concrete toe blocks located at the toe of the dam, usually beneath the tailwater, and supporting each of the rows of concrete blocks. The invention has particular application to providing erosion protection for embankment dams that may be subject to overtopping flows.

Properly filed competing applications received by Reclamation in response to this notice will be considered as objections to the grant of the contemplated license.

Dated: January 12, 2000.
Stanley L. Ponce,
Director, Research and Technology Transfer.

[FR Doc. 00-3110 Filed 2-9-00; 8:45 am]

BILLING CODE 4310-94-M